DEPARTMENT OF COMMERCE

National Oceanic and Atmospheric Administration

RIN: 0648-XH47

Pacific Fishery Management Council; Public Meetings

AGENCY: National Marine Fisheries Service (NMFS), National Oceanic and Atmospheric Administration (NOAA), Commerce.

ACTION: Notice of public meetings.

SUMMARY: The Pacific Fishery Management Council's (Council) Groundfish Allocation Committee (GAC) and Ad Hoc Groundfish Trawl Individual Quota Committee (TIQC) will hold working meetings, which are open to the public.

DATES: The GAC will meet Tuesday, May 13, 2008, from 1 p.m. until business for the day is completed, and reconvene on Wednesday, May 14 and Thursday, May 15 at 8:30 a.m. each day until business for each day is completed. The TIQC will attend the GAC meeting and convene its meeting Thursday, May 15 upon adjournment of the GAC meeting. The TIQC will reconvene on Friday, May 16, 2008 at 8:30 a.m. and continue until their business is completed.

ADDRESSES: The GAC meeting will be held at the Embassy Suites Portland Airport, 7900 NE 82nd, Avenue Portland, OR 97220; telephone: (503) 460-3000. The TIQC meeting will be held at the Pacific Fishery Management Council, Large Conference Room, 7700 NE Ambassador Place, Suite 101, Portland, OR 97220-1384; telephone: (503) 820-2280.

Council address: Pacific Fishery Management Council, 7700 NE Ambassador Place, Suite 101, Portland, OR 97220-1384.

FOR FURTHER INFORMATION CONTACT: Mr. Jim Seger, Staff Officer; telephone: (503) 820-2280.

SUPPLEMENTARY INFORMATION: The purpose of the GAC and TIQC meetings is to develop recommendations to the Council on a preferred trawl rationalization alternative scheduled to be sent out for public review after the Council's June 2008 meeting.

Although non-emergency issues not contained in the meeting agenda may come before the Groundfish Management Team (GMT) or the Committee for discussion, those issues may not be the subject of formal GMT or Committee action during these meetings. GMT or Committee action will be restricted to those issues specifically listed in this notice and any issues arising after publication of this notice that require emergency action under Section 305(c) of the Magnuson-Stevens Fishery Conservation and Management Act, provided the public has been notified of the Committee's intent to take final action to address the emergency.

Special Accommodations

These meetings are physically accessible to people with disabilities. Requests for sign language interpretation or other auxiliary aids should be directed to Ms. Carolyn Porter at (503) 820-2280 at least 5 days prior to the meeting date.

Dated: April 23, 2008.
Tracey L. Thompson,
Acting Director, Office of Sustainable Fisheries, National Marine Fisheries Service.

[FR Doc. E8-9189 Filed 4-25-08; 8:45 am]

BILLING CODE 3510-22-S